NATIONAL ARCHIVES AND RECORDS ADMINISTRATION

36 CFR Parts 1253 and 1280

[Docket NARA-06-0007]

RIN 3095-AB52

Changes in NARA Research Room Hours

AGENCY: National Archives and Records Administration (NARA).

ACTION: Final rule.

SUMMARY: NARA is further modifying the research room hours at its facilities in the Washington, DC, area to retain, on a monthly basis, Saturday and some evening hours. We are taking this action in response to the many comments received on the interim final rule on this subject published in July. As noted in the previous rulemaking, NARA is reducing the research room hours as one of several measures the agency must take in Fiscal Year 2007 to ensure that our expenditures are in line with our expected resources. This regulation will affect individuals who use our archival research rooms in the National Archives Building and National Archives at College Park facility.

DATES: Effective Date: This final rule is effective October 2, 2006.

FOR FURTHER INFORMATION CONTACT: Nancy Allard at 301-837-1477 or Jennifer Davis Heaps at 301-837-1801 or via fax number 301-837-0319.

SUPPLEMENTARY INFORMATION: NARA published an interim final rule with request for comments on July 25, 2006 (71 FR 42058). The interim rule specified changes to NARA research room hours at the National Archives Building in Washington, DC, and the National Archives at College Park, MD and a revision of the public hours for visiting the National Archives Experience and the Rotunda exhibits in the National Archives Building. We received more than 530 timely comments. In addition, approximately 70 individuals attended a public meeting on the rule on August 3, 2006, at which 24 individuals spoke. Virtually all of the responsive comments concerned the research room hours in our DC area facilities.

In this final rule, we are further amending the interim final rule to specify that the research room hours at the National Archives Building and the National Archives at College Park will include, one week a month, evening hours from 5 p.m. to 8:45 p.m. on Thursday and Friday and Saturday hours from 8:45 a.m. to 4:45 p.m. This rule and the other provisions of the interim final rule published at 71 FR 42058 will go into effect on October 2, 2006.

Summary of Public Comments Received

The total number of comments received included submissions made through http://www.regulations.gov, individual letters that were mailed or faxed (or both) to NARA, letters forwarded from Congressional offices, and two petitions. Comments received on or before 11:59 p.m. on September 8, 2006, and those postmarked on or before September 8, were considered timely. Because of the time constraints in revising the rule before October 2, 2006, we were not able to consider late comments.

Many comments expressed appreciation for the important role NARA plays in providing public access to records and offered suggestions for ways in which NARA might be able to retain some or all extended hours. We address the most frequently stated suggestions in the next sections of this SUPPLEMENTARY INFORMATION. A number of comments stated a concern that eliminating evening and Saturday hours would severely restrict the ability of certain categories of researchers—especially students, individuals with full-time jobs, and non-local researchers with limited time and budget—to use the Archives at all. In evaluating the various suggested alternatives, we tried to consider the needs of all researchers, but particularly the needs of those who have limited ability to visit the research rooms during weekday hours.

Discussion of Adopted Comments

A number of commenters recommended offering evening and Saturday hours one week each month. Many commenters stated that they come to our DC area facilities to do research in short, concentrated visits of less than two weeks once or twice a year. Offering monthly extended hours on Thursday and Friday evening and Saturday would provide these users an additional 15 hours of research time during that week. This alternative would also provide some relief to users who cannot come during the weekday because it would give them a non-workday block of time each month to review original records. We have adopted this alternative in the final rule. We recognize that it does not address all of the researcher needs identified in the comments, but it provides the best available balance between researcher needs and NARA financial constraints. For Fiscal Year 2007 (October 1, 2006-September 30, 2007), we will hold the extended hours the third Thursday through Saturday of the month. This schedule avoids conflict with the Veterans Day holiday in November 2006 and other Federal holidays occurring during the first and fourth weeks of other months. The schedule of extended hours will be published at http://www.archives.gov/research/ and also available in the research rooms.

Other Alternatives Proposed in the Comments

A number of comments argued that NARA should make no changes in the research room hours, making reductions in other areas, if necessary. As noted in the preamble above, the reduction in the research room hours is only one of many areas in which NARA is making adjustments to ensure that NARA can continue to fulfill its mission as the nation's recordkeeper effectively with the resources that will be available to us. We are also taking other measures that are less visible to the public, such as instituting a hiring freeze and a staff “buyout” earlier this fiscal year, additional energy conservation measures, and a significant reduction in the agency's FY 2007 travel budget. When we issued the interim final rule, we did so because we had determined that it is not practicable to achieve all of the savings we need without any reduction in research room hours. This situation has not changed.

Many commenters asked that NARA retain Saturday hours once or twice a month. In evaluating the various alternatives, we determined that monthly extended hours on two evenings and Saturday would be more cost effective and serve more categories of researchers than being open two Saturdays per month but no evenings.

A number of commenters recommended that we close the research rooms on one weekday and stay open on Saturdays. While Monday was the day most frequently suggested for closing, other days of the week were put forth too, including a rotating day schedule that would include Saturday. Commenters suggested that this alternative would assist those researchers who can only come on Saturdays; it might also assist some current evening researchers who are able to come on Saturday instead. While a number of institutions follow a Tuesday-Saturday schedule, a Tuesday-Saturday or other similar schedule would not provide an equivalent amount of savings as the interim rule proposal for a Monday-Friday schedule because the facilities would have to remain open on Mondays for other official business that NARA conducts. Thus, NARA would still incur facility and security costs for the buildings on Mondays. This alternative also reduces available hours for our large number of weekday researchers, including Federal agency researchers.

Another recommendation was to open late (e.g., 1 p.m.-9 p.m., noon-8 p.m., 11 a.m.-7 p.m., or 10 a.m.-6 p.m.) some or all weekdays. The commenters suggested that this alternative would provide some relief for researchers who can only come to the Archives in the evening. NARA's review of this alternative found that this would not provide significant relief, except to the relatively small number of researchers (approximately one to two percent) who only use the research rooms in the evening, and might reduce available hours for weekday researchers (over half of our current researchers) if they can not shift to later hours. The cost for this alternative would also be greater than a Monday-Friday schedule because of the need for facility and security services during official business hours and additional night-differential pay for staff working after 6 p.m.

Because the number of research visits to the larger research complex at the National Archives at College Park (Archives II) is nearly double the number of research visits at the National Archives Building, some commenters suggested implementing the Monday-Friday 9 a.m.-5 p.m. schedule at the National Archives Building and retaining the existing extended hours (Tuesday, Thursday, Friday evenings and Saturday every week) at Archives II. Not only is the cost of this alternative significantly more than other alternatives considered; the large number of genealogical researchers who do research at the National Archives Building would gain no relief.

Two other alternatives were suggested by several commenters: to use unpaid volunteers or interns or to charge a user fee to all or non-U.S. researchers. Neither alternative is viable. NARA has a large cadre of dedicated volunteers who greatly assist NARA in carrying out its mission. Volunteer opportunities are described on our Web site at http://www.archives.gov/careers/volunteering/. Volunteers, however, cannot replace NARA staff or security guards in providing oversight of our research rooms and use of original records. NARA does not have statutory authority to charge user fees for access to our research rooms.

Other Comments Relating to Research Room Hours

As part of many comments on the change in hours, concerns were expressed with NARA's schedule for “pulling” (i.e., retrieving from the stacks) original records under the new hours and delays in entering the National Archives Building at the start of the research day because of security procedures. Currently, with the research room opening at 8:45 a.m., the first pull of the day, when researchers must submit their reference requests for original records, takes place at 9:30 a.m. Commenters were concerned that a 9 a.m. research room opening would not allow sufficient time to prepare the reference request before the first pull time. Beginning October 2, we are adjusting the pull times to 10 and 11 a.m., and 1:30 and 2:30 p.m. on the days that the research complex closes at 5 p.m.; an additional late day pull will be provided when we are open in the evening. Changing the morning pulls to 10 and 11 instead of 9:30 and 10:30 allows more time for researchers to submit their requests for the first pulls of the day. The current 3:30 pull time will be dropped because records pulled at 3:30 are scheduled to arrive by 4:30, allowing only 15 minutes for review before records are returned before closing time. Our records retrieval practices will enable us to accommodate requests for records submitted at any time prior to the last pull time of the day.

Another concern was expressed with the availability of NARA staff for researcher consultation. Our experience with the Researcher Assistance Room in the National Archives Building has shown that the most efficient and researcher-friendly reference consultation is provided in one room. Having all finding aids and research assistance staff in one location enables us to focus our resources so we can provide better service to researchers and, at the same time, achieve efficiencies. Staff assigned to a single research consultation room provide excellent reference service because they have all finding aids available in the room and they have no other responsibility to distract them from helping researchers while they are assigned to the room. Researchers benefit significantly from having this focused service in one location. We will modify the Research Assistance Area in Room 2000 in the College Park facility so that we can provide the same efficient service that we provide in the National Archives Building.

Finally, at the public meeting, several commenters expressed concern that the security procedures for entering the National Archives Building were more cumbersome and required more time than our procedures at College Park, also affecting the amount of time researchers could spend in the research rooms. Immediately following the meeting, NARA instituted the same inspection procedures used at College Park in the National Archives Building.

This rule is not a significant regulatory action for the purposes of Executive Order 12866 and has not been reviewed by the Office of Management and Budget. As required by the Regulatory Flexibility Act, I certify that this rule will not have a significant impact on a substantial number of small entities because it affects individual researchers. This regulation does not have any federalism implications.

List of Subjects

36 CFR Part 1253

Archives and records.

For the reasons set forth in the preamble, the interim rule published on July 25, 2006 (71 FR 42058) amending 36 CFR parts 1253 and 1280 is confirmed as final with the following changes:

PART 1253—LOCATION OF NARA FACILITIES AND HOURS OF USE

1. The authority citation for part 1253 continues to read as follows:

Authority: 44 U.S.C. 2104(a).

2. Amend § 1253.1 by revising paragraph (a) to read as follows:

§ 1253.1 National Archives Building.

(a) The National Archives Building is located at 700 Pennsylvania Avenue, NW., Washington, DC 20408. Business hours are 8:45 a.m. to 5:15 p.m., Monday through Friday, except Federal holidays when the building is closed. Hours for the Research Center and the Central Research room are:

(1) 9 a.m. to 5 p.m., Monday through Friday, except Federal holidays, and

(2) Once monthly, from 5 p.m. to 8:45 p.m. on Thursday and Friday and from 8:45 a.m. to 4:45 p.m. on Saturday. Information on these extended hours is available at http://www.archives.gov/research/.

(b) * * *

(c) * * *

3. Amend § 1253.2 by revising paragraph (b) to read as follows:

§ 1253.2 National Archives at College Park.

* * * * *

(b) Research complex hours are:

(1) 9 a.m. to 5 p.m., Monday through Friday, except Federal holidays, and

(2) Once monthly, from 5 p.m. to 8:45 p.m. on Thursday and Friday and from 8:45 a.m. to 4:45 p.m. on Saturday. Information on these extended hours is available at http://www.archives.gov/research/.

* * * * *

Dated: September 25, 2006.
Allen Weinstein,
Archivist of the United States.

[FR Doc. 06-8338 Filed 9-25-06; 2:07 pm]

BILLING CODE 7515-01-P